DEPARTMENT OF HEALTH AND HUMAN SERVICES

Centers for Disease Control and Prevention

[30Day-21-21CT]

Agency Forms Undergoing Paperwork Reduction Act Review

In accordance with the Paperwork Reduction Act of 1995, the Centers for Disease Control and Prevention (CDC) submitted the information collection request titled “Requirement for Negative Pre-Departure Covid-19 Test Result or Documentation of Recovery From Covid-19 for all Airline or other Aircraft Passengers Arriving into the United States from any Foreign Country” to the Office of Management and Budget (OMB) for review and approval. CDC previously published a “Proposed Data Collection Submitted for Public Comment and Recommendations” notice on February 12, 2021 to obtain comments from the public and affected agencies. This collection accompanies a CDC Order of the same name. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Requirement for Negative Pre-Departure Covid-19 Test Result or Documentation of Recovery From Covid-19 for all Airline or other Aircraft Passengers Arriving into the United States from any Foreign Country (OMB Control No. 0920-1318, Exp. 5/31/2021)—Extension—National Center for Emerging Zoonotic and Infectious Diseases (NCEZID), Centers for Disease Control and Prevention (CDC).

Background and Brief Description

This information collection accompanies the Notice and Order named above. Pursuant to 42 CFR 71.20 and as set forth in greater detail below, this Notice and Order prohibit the introduction into the United States of any airline passenger departing from the any foreign country unless the passenger:

(1) Has a negative pre-departure test result for COVID-19 (Qualifying Test), or (2) written or electronic documentation of recovery from COVID-19 in the form of a positive viral test result and a letter from a licensed health care provider or public health official stating that the passenger has been cleared for travel (Documentation of Recovery).

The negative test must be a viral test that was conducted on a specimen collected during the three days preceding the flight's departure from a foreign country. Passengers must retain written or electronic documentation reflecting the Qualifying Test, or Documentation of Recovery, presented to the airline and produce such documentation upon request to any U.S. government official or a cooperating state or local public health authority.

Pursuant to 42 CFR 71.31(b), the Order constitutes a controlled free pratique to any airline with an aircraft arriving into the United States from any foreign country. Pursuant to the controlled free pratique, the airline must comply with the following conditions in order to receive permission for the aircraft to enter and disembark passengers in the United States:

• Airline or other aircraft operator must verify that every passenger—two years of age or older—onboard the aircraft has attested to receiving a negative Qualifying Test result or to having recovered from COVID-19 after previous SARS-CoV-2 infection, and being cleared to travel by a licensed health care provider or public health official.

• Airline or other aircraft operator must confirm that every passenger onboard the aircraft has documentation of a negative Qualifying Test result or Documentation of Recovery from COVID-19.

Certain exemptions and waivers do apply, and are as follows:

• Crew members of airlines or other aircraft operators, provided that they follow industry standard protocols for the prevention of COVID-19 as set forth in relevant Safety Alerts for Operators (SAFOs) issued by the Federal Aviation Administration (FAA).

• Airlines or other aircraft operators transporting passengers with COVID-19 pursuant to CDC authorization and in accordance with CDC guidance.

• Federal law enforcement personnel on official orders who are traveling for the purpose of carrying out a law enforcement function, provided they are covered under an occupational health and safety program in accordance with CDC guidance. Those traveling for training or other business purposes remain subject to the requirements of this Order.

• U.S. Department of Defense (DOD) personnel, including military personnel and civilian employees, dependents, contractors (including whole aircraft charter operators), and other U.S. government employees when traveling on DOD assets, provided that such individuals are under competent military or U.S. government travel orders and observing DOD precautions to prevent the transmission of COVID-19 as set forth in Force Protection Guidance Supplement 14—Department of Defense Guidance for Personnel Traveling During the Coronavirus Disease 2019 Pandemic (December 29, 2020) including its testing guidance.

• Individuals and organizations for which the issuance of a humanitarian exemption is necessary based on both; (1) exigent circumstances where emergency travel is required to preserve health and safety (e.g., emergency medical evacuations), and (2) where pre-departure testing cannot be accessed or completed before travel. Additional conditions may be placed on those granted such exemptions, including but not limited to, observing precautions during travel, providing consent to post-arrival testing, and/or self-quarantine after arrival in the United States, as may be directed by federal, state, territorial, tribal or local public health authorities to reduce the risk of transmission or spread.

CDC is also performing random compliance checks to help ensure documentation, such as test results, meet the requirement of the Order and may collect some contact information in the event some public health follow up action is needed at the time of arrival. Additionally, some outbound air passengers flying to foreign countries may be denied entry to their destination country and may not be able to get a COVID-19 test before boarding a plane back to the United States. CDC works with airlines to receive passenger contact information of these returned air passengers in case public health follow up is needed.

CDC requests approval for an estimated 197,919,951 annual burden hours. The estimated respondent cost is $9,297,175,813. CDC anticipates certain cost burdens to respondents and record keepers due to the requirements. These costs fall into the following categories:

○ Traveler testing and ancillary costs: $30,789,500,000.

○ Traveler deferred travel costs: $116,327,500.

○ Airline staff costs for digitizing attestations: $55,036,667.

○ Airline costs to store attestations: $3,350 to $2,925,000 a year depending on size of airline and number of travelers.

Estimated Annualized Burden Hours
Type of respondent | Form name | Number of respondents | Number of responses per respondent | Average burden per response (in hours)
Traveler (3rd Party Disclosure) | Attestation of a negative COVID-19 test/Documentation indicating clearance for travel by a licensed healthcare provider or public health official | 95,000,000 | 1 | 2
Airline Desk Agent | Attestation of a negative COVID-19 test/Documentation indicating clearance for travel by a licensed healthcare provider or public health official | 95,000,000 | 1 | 5/60
Traveler | Request Exemption on Urgent Humanitarian Basis—(No form) | 1,300 | 1 | 2
Traveler with non-compliant test or documentation of recovery | Contact information collection for public health follow up—(No form) | 5,700 | 1 | 5/60
Returned Inadmissible Traveler | Contact information collection for public health follow up—(No form) | 835 | 1 | 5/60
Airline Representative | Contact information collection for public health follow up—(No form) | 835 | 1 | 10/60

Jeffrey M. Zirger,
Lead, Information Collection Review Office, Office of Scientific Integrity, Office of Science, Centers for Disease Control and Prevention.

[FR Doc. 2021-11351 Filed 5-27-21; 8:45 am]

BILLING CODE 4163-18-P